DEPARTMENT OF TRANSPORTATION

Federal Motor Carrier Safety Administration

49 CFR Parts 385 and 395

[Docket No. FMCSA-2004-19608]

RIN-2126-AB14

Hours of Service of Drivers

AGENCY: Federal Motor Carrier Safety Administration (FMCSA), DOT.

ACTION: Interim final rule (IFR); extension of comment period.

SUMMARY: FMCSA extends the comment period for the Hours of Service of Drivers interim final rule published on December 17, 2007, for 30 days. The FMCSA received a request to extend the comment period from the Advocates for Highway and Auto Safety on February 7, 2008. The extension of the comment period will allow all interested parties additional time to submit comments to the interim final rule.

DATES: Comments must be received on or before March 17, 2008.

ADDRESSES: You may submit comments identified by Federal Docket Management System Number FMCSA-2004-19608 by any of the following methods:

• Web site: http://www.regulations.gov. Follow the instructions for submitting comments on the Federal electronic docket site.

• Fax: 1-202-493-2251.

• Mail: Docket Management Facility, U.S. Department of Transportation, Room W12-140, 1200 New Jersey Avenue, SE., Washington, DC 20590-0001.

• Hand Delivery: Ground Floor, Room W12-140, DOT Building, 1200 New Jersey Avenue, SE., Washington, DC, between 9 a.m. and 5 p.m., e.t., Monday through Friday, except Federal holidays.

Instructions: All submissions must include the Agency name and docket number or Regulatory Identification Number (RIN) for this rulemaking. For detailed instructions on submitting comments and additional information on the rulemaking process, see the Public Participation heading below. Note that all comments received will be posted without change to http://www.regulations.gov, including any personal information provided. Please see the Privacy Act heading below.

Docket: For access to the docket to read background documents or comments received, go to http://www.regulations.gov at any time or to the ground floor, room W12-140, DOT Building, New Jersey Avenue, SE., Washington, DC, between 9 a.m. and 5 p.m., e.t., Monday through Friday, except Federal holidays.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78), or you may visit http://docketsinfo.dot.gov.

Public participation: The http://www.regulations.gov Web site is generally available 24 hours each day, 365 days each year. You can obtain electronic submission and retrieval help and guidelines under the “help” section of the http://www.regulations.gov Web site and also at the DOT's http://docketsinfo.dot.gov Web site. If you want the Agency to notify you that your comments were received, please include a self-addressed, stamped envelope or postcard or print the acknowledgement page that appears after submitting comments online.

Comments received after the comment closing date will be included in the docket, and we will consider late comments to the extent practicable. FMCSA may, however, issue a final rule at any time after the close of the comment period.

FOR FURTHER INFORMATION CONTACT: Mr. Thomas Yager, Driver and Carrier Operations; or MCPSD@dot.gov. Telephone (202) 366-4325. Office hours are from 7:45 a.m. to 4:15 p.m., e.t., Monday through Friday, except Federal holidays.

SUPPLEMENTARY INFORMATION: On February 7, 2008, the Advocates for Highway and Auto Safety (Advocates) sent a request on behalf of themselves, Public Citizen, the Truck Safety Coalition, and the International Brotherhood of Teamsters for an extension of the comment period in the subject rulemaking proceeding. They stated that the complexity of the issues involved, including the new analyses provided in the interim final rule, has required serious evaluation that has taken up much of its limited staff time. The Advocates requested a 30-day extension of the comment period which they believe would be in the public interest and would not prevent the Agency from issuing a final rule in 2008.

In order to allow petitioners and the general public an opportunity to provide comprehensive comments on the new analyses included in the interim final rule published by the Federal Motor Carrier Safety Administration on December 17, 2007, the Agency has decided to grant the petitioner's request to extend the comment period for the rulemaking by 30 days. The comment period has been extended and comments must be received on or before March 17, 2008.

Issued: February 13, 2008.
John H. Hill,
Administrator.

[FR Doc. E8-3073 Filed 2-19-08; 8:45 am]

BILLING CODE 4910-EX-P